DEPARTMENT OF THE INTERIOR

Fish and Wildlife Service

Endangered and Threatened Wildlife and Plants; 5-Year Review of 25 Southwestern Species

AGENCY: Fish and Wildlife Service, Interior.

ACTION: Notice of review.

SUMMARY: The U.S. Fish and Wildlife Service (Service) announces a 5-year review of 25 southwestern species under the Endangered Species Act of 1973 (Act). The purpose of reviews conducted under this section of the Act is to ensure that the classification of species as threatened or endangered on the List of Endangered and Threatened Wildlife and Plants is accurate. The 5-year review is an assessment of the best scientific and commercial data available at the time of the review.

DATES: To allow adequate time to conduct this review, information submitted for our consideration must be received on or before July 20, 2006. However, we will continue to accept new information about any listed species at any time.

ADDRESSES: Information submitted on these species should be sent to the Service at the following addresses. Information received in response to this notice of review will be available for public inspection by appointment, during normal business hours, at the same addresses.

Information regarding the golden-cheeked warbler, Houston toad, Government Canyon Bat Cave spider, Robber Baron Cave meshweaver, Government Canyon Bat Cave meshweaver, Madla's Cave meshweaver, Braken Bat Cave meshweaver, Cokendolpher Cave harvestman, Helotes mold beetle, ground beetle (Rhadine exilis), and ground beetle (Rhadine infernalis) should be sent to the Field Supervisor, Attention 5-year Review, U.S. Fish and Wildlife Service, Austin Ecological Services Field Office, 10711 Burnet Road, Suite 200, Austin, Texas 78758. The office phone number is 512-490-0057.

Information regarding the Cochise pincushion cactus, Peebles Navajo cactus, Siler pincushion cactus, jaguar, Apache trout, desert pupfish, and Sonora tiger salamander should be sent to the Field Supervisor, Attention 5-year Review, U.S. Fish and Wildlife Service, Arizona Ecological Services Field Office, 2321 West Royal Palm Road, Suite 103, Phoenix, AZ 85021. The office phone number is 602-242-0210.

Information regarding the slender rush-pea and black lace cactus should be sent to the Field Supervisor, Attention 5-year Review, U.S. Fish and Wildlife Service c/o TAMU-CC, Ecological Services, 6300 Ocean Drive, Unit 5837, Corpus Christi, TX 78412. The office phone number is 361-994-9005.

Information regarding the Ozark big-eared bat and leopard darter should be sent to the Field Supervisor, Attention 5-year Review, U.S. Fish and Wildlife Service, Oklahoma Ecological Services Field Office, 222 S. Houston, Suite A, Tulsa, OK 74127. The office phone number is 918-581-7458.

Information regarding Pecos bluntnose shiner, Sacramento prickly poppy, and Todsen's pennyroyal should be sent to the Field Supervisor, Attention 5-year Review, U.S. Fish and Wildlife Service, New Mexico Ecological Services Field Office, 2105 Osuna Road NE., Albuquerque, NM 87113. The office phone number is 505-346-2525.

FOR FURTHER INFORMATION CONTACT: For species specific information, contact the appropriate office named in ADDRESSES.

SUPPLEMENTARY INFORMATION:

Why is a 5-year review conducted?

Section 4(c)(2)(A) of the Act (16 U.S.C. 1531 et seq.) requires that we conduct a review of listed species at least once every 5 years. We are then, under section 4(c)(2)(B) and the provisions of subsections (a) and (b), to determine, on the basis of such a review, whether or not any species should be removed (delisted) from the List of Endangered and Threatened Wildlife and Plants (50 CFR 17.12), or reclassified from endangered to threatened (downlisted), or from threatened to endangered (uplisted).

The 5-year review is an assessment of the best scientific and commercial data available at the time of the review. Therefore, we are requesting submission of any new information (best scientific and commercial data) on the following 25 species since their original listings as either endangered (golden-cheeked warbler, Houston toad, Government Canyon Bat Cave spider, Robber Baron Cave meshweaver, Government Canyon Bat Cave meshweaver, Madla's Cave meshweaver, Braken Bat Cave meshweaver, Cokendolpher Cave harvestman, Helotes mold beetle, ground beetle (Rhadine exilis), ground beetle (Rhadine infernalis), Peebles Navajo cactus, jaguar, desert pupfish, Sonora tiger salamander, slender rush-pea, black lace cactus, Ozark big-eared bat, Sacramento prickly poppy, Todsen's pennyroyal ) or threatened (Cochise pincushion cactus, siler pincushion cactus, Apache trout, leopard darter, Pecos bluntnose shiner). If the present classification of any of these species is not consistent with the best scientific and commercial information available, the Service will recommend whether or not a change is warranted in the Federal classification of that species. Any change in Federal classification would require a separate rule-making process.

Our regulations at 50 CFR 424.21 require that we publish a notice in the Federal Register announcing those species currently under active review. This notice announces our active review of the 25 species listed in Table 1.

What information is considered in the review?

A 5-year review considers all new information available at the time of the review. These reviews will consider the best scientific and commercial data that has become available since the current listing determination or most recent status review of each species, such as:

A. Species biology, including but not limited to population trends, distribution, abundance, demographics, and genetics;

B. Habitat conditions, including but not limited to amount, distribution, and suitability;

C. Conservation measures that have been implemented to benefit the species;

D. Threat status and trends (see five factors under heading “How do we determine whether a species is endangered or threatened?”); and

E. Other new information, data, or corrections, including but not limited to taxonomic or nomenclatural changes, identification of erroneous information contained in the List of Endangered and Threatened Wildlife and Plants, and improved analytical methods.

How are these species currently listed?

The List of Endangered and Threatened Wildlife and Plants (List) is found in 50 CFR 17.11 (wildlife) and 17.12 (plants). Amendments to the List through final rules are published in the Federal Register. The List is also available on our Internet site at http://www.fws.gov/endangered/wildlife.html. In Table 1 below, we provide a summary of the listing information for the species under active review.

Table 1.—Summary of the Listing Information
Common name | Scientific name | Status | Where listed | Final listing rule
Golden-cheeked warbler | Dendroica chrysoparia | E | TX, Guatemala, Honduras, Mexico, Nicaragua | 55 FR 53153, 53160.
Houston toad | Bufo houstonensis | E | TX | 35 FR 16047, 16048.
Government Canyon Bat Cave spider | Neoleptoneta microps | E | TX | 65 FR 81419, 81433.
Robber Baron Cave meshweaver | Cicurina baronia | E | TX | 65 FR 81419, 81433.
Government Canyon Bat Cave meshweaver | Cicurina vespera | E | TX | 65 FR 81419, 81433.
Braken Bat Cave meshweaver | Cicurina venii | E | TX | 65 FR 81419, 81433.
Madla's Cave meshweaver | Cicurina madla | E | TX | 65 FR 81419, 81433.
Cokendolpher Cave harvestman | Texella cokendolpheri | E | TX | 65 FR 81419, 81433.
Helotes mold beetle | Batrisodes venyivi | E | TX | 65 FR 81419, 81433.
ground beetle (Rhadine exilis) | Rhadine exilis | E | TX | 65 FR 81419, 81433.
ground beetle (Rhadine infernalis) | Rhadine infernalis | E | TX | 65 FR 81419, 81433.
Cochise pincushion cactus | Coryphantha robbinsorum | T | AZ, Mexico-Sonora | 51 FR 952, 956.
Peebles Navajo cactus | Pediocactus peeblesianus peeblesianus | E | AZ | 44 FR 61922, 61924.
Siler pincushion cactus | Pediocactus (=Echinocactus, =Utahia) sileri | T | AZ, UT | 58 FR 68476, 68480.
jaguar | Panthera onca | E | AZ, NM, TX, Mexico, Central and South America | 62 FR 39147, 39157.
Apache trout | Oncorhynchus apache | T | AZ | 40 FR 29863, 29864.
desert pupfish | Cyprinodon macularius | E | AZ, CA, Mexico | 51 FR 10842, 10851.
Sonora tiger salamander | Ambystoma tigrinum stebbinsi | E | Arizona, Mexico | 62 FR 665, 689.
slender rush-pea | Hoffmannseggia tenella | E | TX | 50 FR 45614, 45618.
black lace cactus | Echinocereus reichenbachii var. albertii | E | TX | 44 FR 61918, 61920.
Ozark big-eared bat | Corynorhinus (=Plecotus) townsendii ingens | E | AR, MO, OK | 44 FR 69206, 69208.
leopard darter | Percina pantherina | T | AR, OK | 43 FR 3711, 3716.
Pecos bluntnose shiner | Notropis simus pecosensis | T | NM | 52 FR 5295, 5303.
Sacramento prickly poppy | Argemone pleiacantha ssp. pinnatisecta | E | NM | 54 FR 35302, 35305.
Todsen's pennyroyal | Hedeoma todsenii | E | NM | 46 FR 5730, 5733.

Definitions Related to This Notice

The following definitions are provided to assist those persons who contemplate submitting information regarding the species being reviewed:

A. Species includes any species or subspecies of fish, wildlife, or plant, and any distinct population segment of any species of vertebrate, which interbreeds when mature.

B. Endangered means any species that is in danger of extinction throughout all or a significant portion of its range.

C. Threatened means any species that is likely to become an endangered species within the foreseeable future throughout all or a significant portion of its range.

How do we determine whether a species is endangered or threatened?

Section 4(a)(1) of the Act establishes that we determine whether a species is endangered or threatened based on one or more of the five following factors:

A. The present or threatened destruction, modification, or curtailment of its habitat or range;

B. Overutilization for commercial, recreational, scientific, or educational purposes;

C. Disease or predation;

D. The inadequacy of existing regulatory mechanisms; or

E. Other natural or manmade factors affecting its continued existence. Section 4(a)(1) of the Act requires that our determination be made on the basis of the best scientific and commercial data available.

What could happen as a result of this review?

If we find that there is new information concerning any of the 25 species listed in Table 1 indicating a change in classification may be warranted, we may propose a new rule that could do one of the following: (a) Reclassify the species from endangered to threatened (downlist); (b) reclassify the species from threatened to endangered (uplist); or (c) remove the species from the List. If we determine that a change in classification is not warranted, then these species will remain on the List under their current status.

Public Solicitation of New Information

We request any new information concerning the status of the 25 species listed in Table 1. See “What information is considered in the review?” heading for specific criteria. Information submitted should be supported by documentation such as maps, bibliographic references, methods used to gather and analyze the data, and/or copies of any pertinent publications, reports, or letters by knowledgeable sources. Our practice is to make comments, including names and home addresses of respondents, available for public review. Individual respondents may request that we withhold their home addresses from the supporting record, which we will honor to the extent allowable by law. There also may be circumstances in which we may withhold from the supporting record a respondent's identity, as allowable by law. If you wish us to withhold your name and/or address, you must state this prominently at the beginning of your comment. We will not consider anonymous comments, however. We will make all submissions from organizations or businesses, and from individuals identifying themselves as representatives or officials of organizations or businesses, available for public inspection in their entirety.

Authority

This document is published under the authority of the Endangered Species Act (16 U.S.C. 1531 et seq.).

Dated: March 15, 2006.
Benjamin N. Tuggle,
Acting Regional Director, Southwest Region, Fish and Wildlife Service.

[FR Doc. E6-5983 Filed 4-20-06; 8:45 am]

BILLING CODE 4310-55-P